DEPARTMENT OF ENERGY

Federal Energy Regulatory Commission

[Docket No. AD06-9-000]

RTO Border Utility Issues; Notice of Technical Conference on Seams Issues for RTOs and ISOs in the Eastern Interconnection

January 25, 2007.

Take notice that on March 29, 2007, at 9 a.m. (EST), the Federal Energy Regulatory Commission will convene a technical conference on RTO and ISO seams issues in the Eastern Interconnection. Members of the public are welcome to attend, and no pre-registration is required. The conference will be held at the Federal Energy Regulatory Commission, 888 First Street, NE., Washington, DC 20426.

In a Commission proceeding in 2006, parties raised the issue of an electric utility's ability to benefit from an RTO/ISO's transmission system, markets and reliability investments while avoiding some or all of the costs attributable to membership in the RTO/ISO. The Commission found that this issue raised “generic concerns with implications applicable to all RTOs and ISOs and to all market participants with whom they interact, whether directly or indirectly.” ¹ The Commission then announced its intention to establish a technical conference to hear from interested parties concerning this issue and other issues involving seams between RTO/ISOs and companies on their borders. Subsequently, the Commission determined that the western seams agenda should proceed on a separate track and held a technical conference on seams issues in the Western Interconnection in December 2006. Also, Commission staff heard concerns about seams issues between RTO/ISO markets in the Eastern Interconnection region. Hence, we have determined that the technical conference should include discussion of the broader range of RTO/ISO seams issues, but limited to the Eastern Interconnection. The Commission invites representatives of all regions to participate.

¹ Louisville Gas and Electric Company, et al., 114 FERC ¶ 61,282 (2006) at P 64-65.

The Commission is now soliciting nominations for speakers at the technical conference. Persons wishing to nominate themselves as speakers should do so using this electronic link: https://www.ferc.gov/whats-new/registration/rto-03-29-speaker-form.asp. Such nominations must be made before the close of business, February 16, 2007 so that an agenda for the technical conference can be drafted and published.

An agenda will be issued prior to the conference. You may use the Commission's e-subscription service to be notified of future notices in this proceeding. Please visit http://www.ferc.gov/docs-filing/esubscription.asp.

A free webcast of this event will be available through www.ferc.gov. Anyone with Internet access who desires to view this event can do so by navigating to http://www.ferc.gov's Calendar of Events and locating this event in the Calendar. The event will contain a link to its Webcast. The Capitol Connection provides technical support for the webcasts. It also offers access to open meetings via television in the DC area and via phone bridge for a fee. Visit http://www.CapitolConnection.org or contact Danelle Perkowski or David Reininger at 703-993-3100.

Commission conferences are accessible under section 508 of the Rehabilitation Act of 1973. For accessibility accommodations please send an e-mail to accessibility@ferc.gov or call toll free 866-208-3372 (voice) or 202-208-1659 (TTY), or send a FAX to 202-208-2106 with the required accommodations.

For further information on this conference, please contact: Udi Helman, Office of Energy Markets and Reliability, Federal Energy Regulatory Commission, 888 First Street, NE., Washington, DC 20426, 202-502-8080, Udi.Helman@ferc.gov.

Magalie R. Salas,
Secretary.

[FR Doc. E7-1667 Filed 2-1-07; 8:45 am]

BILLING CODE 6717-01-P